DEPARTMENT OF THE INTERIOR

Bureau of Land Management

[NV030-08-1430-ER; 08-08807; TAS: 14X1109]

Notice of Intent to Prepare an Environmental Impact Statement for the Blackhawk to Heybourne Transmission Line Project, Nevada

AGENCY: Bureau of Land Management, Interior.

ACTION: Notice of Intent.

SUMMARY: The Bureau of Land Management (BLM) Carson City District Office, Carson City, Nevada, intends to prepare an Environmental Impact Statement (EIS) for Sierra Pacific Power Company's Blackhawk to Heybourne Transmission Line Project which will run through Storey, Lyon, Carson City and Douglas counties. This notice announces the beginning of the scoping process and solicits input on the identification of issues.

DATES: The BLM will accept comments until October 31, 2008. The BLM will announce public scoping meetings through local news media, mailings, and the BLM Web site http://www.blm.gov/nv/st/en/fo/carson_city_field.html at least 15 days prior to each meeting.

ADDRESSES: Submit written comments to:

• BLM Carson City District Office, Attn: Blackhawk EIS Project Manager, 5665 Morgan Mill Road, Carson City, NV 89701.

• Fax: (775) 885-6147.

• E-mail: blackhawkeis@blm.gov.

Documents pertinent to this proposal may be examined at the Carson City District Office.

FOR FURTHER INFORMATION CONTACT: For further information and to have your name added to the Blackhawk EIS mailing list, call Mark Struble, (775) 885-6107; or e-mail blackhawkeis@blm.gov.

SUPPLEMENTARY INFORMATION: The BLM Carson City District Office will prepare an EIS for the Blackhawk to Heybourne Transmission Line Project (Project) to analyze the direct, indirect, and cumulative impacts resulting from construction of a new 120 kV electrical transmission line and two new substations proposed in a right-of-way (ROW) application submitted by Sierra Pacific Power Company. The proposed Project includes the construction of approximately 34 miles of an electrical 120 kV transmission line through four counties in Nevada, beginning at the proposed new Blackhawk Substation in Storey County. From the proposed Blackhawk Substation four new 120 kV transmission lines would run parallel, crossing U.S. Highway 50, for approximately four miles where two of the lines would fold into an existing transmission line north of the Carson River. From that point the remaining two lines would continue southwest, crossing the Carson River, and running eight miles to the existing Dayton Substation in Lyon County. From the Dayton Substation one transmission line would run south over two miles, then west approximately six miles, parallel with existing lines to the existing Brunswick Substation in Carson City. From the Brunswick Substation the transmission line parallels existing powerlines straight south for approximately seven miles to the existing Prison Hill Substation in Carson City. At this point the line would parallel an existing line south for less than a mile before turning west for approximately three and a half miles in a new corridor through a saddle in Hot Springs Mountain and across the Douglas County water treatment facility, then south for approximately one mile paralleling an existing line and terminating at the proposed new Heybourne Substation in Douglas County. The proposed transmission line runs parallel with existing transmission lines along all but the first four miles in Storey and Lyon counties and three and a half miles in Douglas County. The BLM will work closely with interested parties to identify the best possible alternatives and management decisions that will take into account local, regional, and national needs and concerns.

The purpose of the public scoping process is to determine relevant issues that will influence the scope of the environmental analysis, including alternatives, and guide the EIS process. The EIS will address issues brought forth through scoping and will be evaluated by an interdisciplinary team of BLM and other agency specialists. A range of alternatives and mitigating measures will be considered to evaluate and minimize environmental impacts and to assure that the proposed actions do not result in undue or unnecessary degradation of public lands. Federal, State, and local agencies and other individuals or organizations that may be interested in or affected by the BLM decision on the Blackhawk to Heybourne Transmission Line Project are urged to participate in the EIS process. It is important that those interested in the proposed activities participate in the scoping and commenting processes of the EIS. Written comments may be provided to the BLM at the public scoping meetings or may be submitted to the BLM using one of the methods listed in the Addresses section above. Comments will be accepted until October 31, 2008.

Before including your address, phone number, e-mail address, or other personal identifying information in your comment, you should be aware that your entire comment—including your personal identifying information—may be made publicly available at any time. While you can ask us in your comment to withhold your personal identifying information from public review, we cannot guarantee that we will be able to do so.

(Authority: 43 CFR part 2804)

Dated: September 11, 2008.
Patrick Gubbins,
Manager, Carson City District Office.

[FR Doc. E8-22336 Filed 9-23-08; 8:45 am]

BILLING CODE 4310-HC-P